DEPARTMENT OF COMMERCE

National Oceanic and Atmospheric Administration

[RTID 0648-XE539]

Mid-Atlantic Fishery Management Council (MAFMC); Public Meeting

AGENCY: National Marine Fisheries Service (NMFS), National Oceanic and Atmospheric Administration (NOAA), Commerce.

ACTION: Notice; public meeting.

SUMMARY: The Mid-Atlantic and New England Fishery Management Councils (Councils) will hold a public meeting of their joint Northeast Trawl Advisory Panel.

DATES: The meeting will be held on Thursday, January 9, 2025 from 9 a.m. to 5 p.m. For agenda details, see SUPPLEMENTARY INFORMATION.

ADDRESSES: This meeting will be conducted in person with a virtual option available. The meeting will be held at the Embassy Suites, 9000 Bartram Avenue, Philadelphia, PA 19153; telephone: (215) 365-4500. Webinar registration details will be posted to the calendar at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Councils' Northeast Trawl Advisory Panel will meet to review recent developments and updates related to federal and state fishery surveys, the Research to Rule infographic, and a broader discussion related to fishy independent bottom trawl surveys. The Northeast Trawl Advisory Panel will also receive an update on the contingency plan for the NOAA Henry B. Bigelow vessel as well as discuss current and the ongoing efforts to design an Industry Based Multispecies Bottom Trawl Survey pilot project.

Special Accommodations

The meeting is physically accessible to people with disabilities. Requests for sign language interpretation or other auxiliary aids should be directed to Shelley Spedden, (302) 526-5251 at least 5 days prior to the meeting date.

Authority: 16 U.S.C. 1801 et seq.

Dated: December 16, 2024.
Rey Israel Marquez,
Acting Deputy Director, Office of Sustainable Fisheries, National Marine Fisheries Service.

[FR Doc. 2024-30287 Filed 12-18-24; 8:45 am]

BILLING CODE 3510-22-P